DEPARTMENT OF COMMERCE

National Oceanic and Atmospheric Administration

[I.D. 051200E]

Pacific Fishery Management Council; Public Meeting

AGENCY: National Marine Fisheries Service (NMFS), National Oceanic and Atmospheric Administration (NOAA), Commerce.

ACTION: Notice of public meetings.

SUMMARY: The Pacific Fishery Management Council's (Council) Coastal Pelagic Species Management Team (CPSMT) and Coastal Pelagic Species Advisory Subpanel (CPSAS) will hold public meetings.

DATES: The CPSMT meeting will begin on Thursday, June 8, 2000 at 8 a.m. and will continue until 12 p.m. The CPSAS meeting will begin on Thursday, June 8, 2000 at 1 p.m. and may go into the evening until business for the day is completed.

ADDRESSES: Both the CPSMT and CPSAS meetings will be held in the Large Conference Room at the California Department of Fish and Game, 330 Golden Shore, Suite 50, Long Beach, CA.

Council address: Pacific Fishery Management Council, 2130 SW Fifth Avenue, Suite 224, Portland, OR 97201.

FOR FURTHER INFORMATION CONTACT: Mr. Dan Waldeck, Pacific Fishery Management Council, (503) 326-6352; or Dr. Doyle Hanan, California Department of Fish and Game, (619) 546-7170.

SUPPLEMENTARY INFORMATION: There are several items that may be on the CPSMT agenda, these include: Pacific mackerel stock assessment and harvest guideline; coastal pelagic species (CPS) stock assessment and fishery evaluation (SAFE) document; fishery management plan amendment for bycatch in CPS fisheries, market squid maximum sustainable yield, and market squid allowable biological catch; transferability of limited entry permits; and applications for anchovy reduction fishery exempted fishing permits. The primary purpose of the CPSAS meeting is to review documents and analyses developed by the CPSMT and to discuss other pertinent business.

Although non-emergency issues not contained in the meeting agenda may come before the CPSMT and/or the CPSAS for discussion, those issues may not be the subject of formal CPSMT or CPSAS action during this meetings. CPSMT and/or CPSAS action will be restricted to those issues specifically listed in this notice and any issues arising after publication of this notice that require emergency action under section 305(c) of the Magnuson-Stevens Fishery Conservation and Management Act, provided the public has been notified of the CPSMT's and/or CPSAS's intent to take final action to address the emergency.

Special Accommodations

These meetings are physically accessible to people with disabilities. Requests for sign language interpretation or other auxiliary aids should be directed to Mr. John Rhoton at (503) 326-6352 at least 5 days prior to the meeting date.

Dated: May 17, 2000.
Richard W. Surdi,
Acting Director, Office of Sustainable Fisheries, National Marine Fisheries Service.

[FR Doc. 00-12966 Filed 5-22-00; 8:45 am]

BILLING CODE 3510-22-F